DEPARTMENT OF LABOR

Office of the Secretary

Agency Information Collection Activities; Submission for OMB Review; Comment Request; Loans To Plan Participants and Beneficiaries Who Are Parties in Interest With Respect to the Plan Regulation

ACTION: Notice.

SUMMARY: The Department of Labor (DOL) is submitting the Employee Benefits Security Administration (EBSA) sponsored information collection request (ICR) titled, “Loans to Plan Participants and Beneficiaries Who Are Parties In Interest With Respect to The Plan Regulation,” to the Office of Management and Budget (OMB) for review and approval for continued use, without change, in accordance with the Paperwork Reduction Act of 1995 (PRA), 44 U.S.C. 3501 et seq. Public comments on the ICR are invited.

DATES: The OMB will consider all written comments that agency receives on or before March 13, 2017.

ADDRESSES: A copy of this ICR with applicable supporting documentation; including a description of the likely respondents, proposed frequency of response, and estimated total burden may be obtained free of charge from the RegInfo.gov Web site at http://www.reginfo.gov/public/do/PRAViewICR?ref_nbr=201701-1210-003 (this link will only become active on the day following publication of this notice) or by contacting Michel Smyth by telephone at 202-693-4129, TTY 202-693-8064, (these are not toll-free numbers) or by email at DOL_PRA_PUBLIC@dol.gov.

Submit comments about this request by mail or courier to the Office of Information and Regulatory Affairs, Attn: OMB Desk Officer for DOL-EBSA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129, TTY 202-693-8064, (these are not toll-free numbers) or by email at DOL_PRA_PUBLIC@dol.gov.

Authority: 44 U.S.C. 3507(a)(1)(D).

SUPPLEMENTARY INFORMATION: This ICR seeks to extend PRA authority for the Loans to Plan Participants and Beneficiaries Who Are Parties In Interest With Respect to The Plan Regulation information collection. More specifically, the ICR is for the information collections contained in the regulation related to plan participants and beneficiaries who are parties in interest with respect to the plan, 29 CFR 2550.408b-1. The Employee Retirement Income Security Act (ERISA) prohibits a plan fiduciary from causing the plan to engage in a transaction, if the fiduciary knows or should know the transaction constitutes a direct or indirect loan or extension of credit between the plan and a party in interest. ERISA section 408(b)(1) exempts from this prohibition a loan from a plan to a party in interest who is also a plan participant or beneficiary, provided satisfaction of certain requirements. DOL regulations implementing the statutory provision provide additional guidance. Specifically, regulations 29 CFR 2550.408b-1(d) prescribes eight specific provisions that must be included in the plan documents, including: (1) An explicit authorization for the plan fiduciary responsible for investing plan assets to establish such a loan program, (2) the identity of the person or position authorized to administer the program, (3) a procedure for applying for loans, (4) the basis on which loans will be approved or denied, (5) limitations, if any, on the types and amounts of loans offered, (6) the procedure for determining a reasonable interest rate, (7) types of collateral that may secure a participant loan, and (8) the events constituting default and the steps that will be taken to preserve plan assets in the event of such default. ERISA section 408(a) authorizes this information collection. See 29 U.S.C. 1108(a).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1210-0076.

OMB authorization for an ICR cannot be for more than three (3) years without renewal, and the current approval for this collection is scheduled to expire on February 28, 2017. The DOL seeks to extend PRA authorization for this information collection for three (3) more years, without any change to existing requirements. The DOL notes that existing information collection requirements submitted to the OMB receive a month-to-month extension while they undergo review. For additional substantive information about this ICR, see the related notice published in the Federal Register on October 28, 2016 (81 FR 75157).

Interested parties are encouraged to send comments to the OMB, Office of Information and Regulatory Affairs at the address shown in the ADDRESSES section within thirty (30) days of publication of this notice in the Federal Register. In order to help ensure appropriate consideration, comments should mention OMB Control Number 1210-0076. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-EBSA.

Title of Collection: Loans to Plan Participants and Beneficiaries Who Are Parties In Interest With Respect to The Plan Regulation.

OMB Control Number: 1210-0076.

Affected Public: Private Sector—businesses or other for-profits and not-for-profit institutions.

Total Estimated Number of Respondents: 2,556.

Total Estimated Number of Responses: 2,556.

Total Estimated Annual TimeBurden: 0.

Total Estimated Annual Other Costs Burden: $1,023,678.

Dated: February 6, 2017.
Michel Smyth,
Departmental Clearance Officer.

[FR Doc. 2017-02810 Filed 2-9-17; 8:45 am]

BILLING CODE 4510-29-P